DEPARTMENT OF HEALTH AND HUMAN SERVICES

Centers for Disease Control and Prevention

Interagency Committee on Smoking and Health Meeting: Correction

ACTION: Notice; Correction.

Name: Interagency Committee on Smoking and Health.

Date and Time: 10 a.m.-4 p.m., October 1, 2002.

Place: Room 615F, Hubert H. Humphrey Building, 200 Independence Avenue, SW., 6th Floor, Washington, DC 20201.

Correction: In the Federal Register of September 5, 2002, Volume 67, Number 172, Notices, Page 56845, under “Status” September 23, 2001 should read September 23, 2002.

Correction: In the Federal Register of September 5, 2002, Volume 67, Number 172, Notices, Page 56845, “NAME” should read: Interagency Committee on Smoking and Health (ICSH) Cessation Subcommittee.

Correction: In the Federal Register of September 5, 2002, Volume 67, Number 172, Notices, Page 56845 PURPOSE” should read: The ICSH advises the Secretary, Department of Health and Human Services, and the Assistant Secretary for Health in the: (a) Coordination of all research and education programs and other activities within the Department and with other federal, state, local and private agencies, and (b) establishment and maintenance of liaison with appropriate private entities, federal agencies, and state and local public health agencies with respect to smoking and health activities. The ICSH Cessation Subcommittee is charged with making recommendations on how best to promote tobacco use cessation.

Correction: In the Federal Register of September 5, 2002, Volume 67, Number 172, Notices, Page 56845, “Matter To Be Discussed” should read: The agenda will focus on the evidence base for tobacco use cessation and the establishment, timeline and scope of work of the ICSH Cessation Subcommittee.

Contact Person for More Information: Substantive program information as well as summaries of the meeting and roster of committee members may be obtained from the Internet http://www.cdc.gov/tobacco in November 2002, or from Ms. Monica L. Swann, Committee Management Specialist, Interagency Committee on Smoking and Health, Office on Smoking and Health, NCCDPHP, CDC, 200 Independence Avenue, SW, Room 317B, Washington, DC, 20201, telephone (202) 205-8500.

The Director, Management Analysis and Services Office, has been delegated the authority to sign Federal Register notices pertaining to announcements of meetings and other committee management activities, for both the Centers for Disease Control and Prevention and the Agency for Toxic Substances and Disease Registry.

Dated: September 10, 2002.
John Burckhardt,
Acting Director, Management Analysis and Services Office, Centers for Disease Control and Prevention.

[FR Doc. 02-23456 Filed 9-13-02; 8:45 am]

BILLING CODE 4163-18-P